NUCLEAR REGULATORY COMMISSION

[Docket Nos. 50-282, 50-306, and 72-10; NRC-2014-0236]

Northern States Power Company; Prairie Island Nuclear Generating Plant Independent Spent Fuel Storage Installation

AGENCY: Nuclear Regulatory Commission.

ACTION: Exemption; issuance.

SUMMARY: The U.S. Nuclear Regulatory Commission (NRC) is issuing an exemption in response to a May 16, 2013, request from Northern States Power Company (NSPM or the licensee), a Minnesota corporation doing business as Xcel Energy, for its specific license to operate an independent spent fuel storage installation (ISFSI) at the Prairie Island (PI) Nuclear Generating Plant. The licensee seeks relief from a regulatory provision with regard to the location of the primary alarm station.

DATES: Notice of issuance of exemption is given on May 1, 2015.

ADDRESSES: Please refer to Docket ID NRC-2014-0236 when contacting the NRC about the availability of information regarding this document. You may obtain publicly-available information related to this document using any of the following methods:

• Federal Rulemaking Web site: Go to http://www.regulations.gov and search for Docket ID NRC-2014-0236. Address question about NRC dockets to Carol Gallagher; telephone: 301-415-3463; email: Carol.Gallagher@nrc.gov. For technical questions, contact the individual listed in the FOR FURTHER INFORMATION CONTACT section of this document.

• NRC's PDC: You may examine and purchase copies of public documents at the NRC's PDR, Room O1-F21, One White Flint North, 11555 Rockville Pike, Rockville, Maryland 20852.

FOR FURTHER INFORMATION CONTACT: Pamela Longmire, Ph.D., Office of Nuclear Material Safety and Safeguards, U.S. Nuclear Regulatory Commission, Washington, DC 20555-0001; telephone: 301-415-7000; email: Pamela.Longmire@nrc.gov.

SUPPLEMENTARY INFORMATION:

I. Background

The licensee possesses a specific license under part 72 of Title 10 of the Code of Federal Regulations (10 CFR) for the storage of spent fuel in an ISFSI at the PI Nuclear Generating Plant. Section 72.180, “Physical protection plan,” requires the licensee to comply with the physical protection requirements in 10 CFR 73.51, “Requirements for the physical protection of stored spent nuclear fuel and high-level radioactive waste.” The licensee is subject to the requirements of 10 CFR 73.51(d)(3), which specifies the location, components, and requirements for the primary alarm station for the ISFSI.

II. Request/Action

By letter dated May 16, 2013, NSPM submitted a request for an exemption from a specific portion of the requirements of 10 CFR 73.51(d), “Physical protection systems, components, and procedures.” Specifically, the licensee seeks relief from a regulatory provision of 10 CFR 73.51(d)(3) with regard to the location of the primary alarm station.

The NRC has the authority under 10 CFR 73.5 to grant a specific exemption from these requirements if the exemption is authorized by law and will not endanger life or property or the common defense and security, and the exemption is otherwise in the public interest.

III. Discussion

In accordance with the provisions of 10 CFR 73.21, physical protection plans for the storage of spent fuel and high-level radioactive waste are protected as Safeguards Information. This exemption request pertains to the location of the primary alarm station. The NRC evaluated the exemption request in greater detail in the safety evaluation report (SER). The SER is withheld from public disclosure in accordance with 10 CFR 2.390 because it contains security information.

A. Regulatory Evaluation

In the final rule, “Physical Protection for Spent Nuclear Fuel and High-Level Radioactive Waste” (63 FR 26955; May 15, 1998), the introductory text of 10 CFR 73.51(d) was revised to more clearly indicate the Commission's intent that alternative measures may also be acceptable for meeting the performance objectives of 10 CFR 73.51(d).

B. Technical Evaluation

Pursuant to 10 CFR 73.5, the Commission may, upon application by any interested person or upon its own initiative, grant such exemptions from the requirements of the regulations in 10 CFR part 73 as it determines are authorized by law, will not endanger life or property or the common defense and security, and are otherwise in the public interest. The NRC reviewed this request to determine whether the exemption should be granted. The NRC's evaluation of this exemption request is set forth in the SER.

The NRC has found that the NSPM meets the criteria for an exemption in 10 CFR 73.5. The NRC has determined that granting the exemption will not result in a violation of the Atomic Energy Act of 1954, as amended, or otherwise violate the Commission's regulations. Therefore, the exemption is authorized by law. This exemption would not reduce the safeguards effectiveness of the physical security plan, and would allow NSPM to continue to maintain the 10 CFR 73.51 performance objectives of high assurance of public health and safety and the common defense and security. Therefore, granting the exemption would not endanger life or property or the common defense and security. Lastly, issuance of the exemption would facilitate effective security management at the PI site. Therefore, issuance of the exemption is in the public interest.

C. Environmental Assessment

The NRC also considered whether there would be any significant environmental impacts associated with the exemption. For this proposed action, the NRC performed an environmental assessment pursuant to 10 CFR 51.30. The proposed action is the approval of a request to exempt the applicant from certain requirements of 10 CFR 73.51(d)(3).

The environmental assessment concluded that the proposed action would not significantly impact the quality of the human environment. The NRC concludes that the proposed action would not result in any changes in the types or amounts of any radiological or non-radiological effluents that may be released offsite, and there would be no significant increase in occupational or public radiation exposure because of the proposed action. The environmental assessment and the finding of no significant impact were published in the Federal Register on October 24, 2014 (79 FR 63649).

IV. Conclusion

Accordingly, the Commission has determined that, pursuant to 10 CFR 73.5, this exemption is authorized by law, will not endanger life or property or the common defense and security, and is otherwise in the public interest. Therefore, the Commission hereby grants NSPM an exemption from certain requirements of 10 CFR 73.51(d)(3), as specified in the SER. The licensee did not request, and the Commission does not grant, relief from any other requirement in 10 CFR 73.51(d)(3) or any other provision.

Dated at Rockville, Maryland, this 23rd day of April 2015.
For the Nuclear Regulatory Commission.
Anthony H. Hsia,
Deputy Director, Division of Spent Fuel Management, Office of Nuclear Material Safety and Safeguards.

[FR Doc. 2015-10246 Filed 4-30-15; 8:45 am]

BILLING CODE 7590-01-P